DEPARTMENT OF THE INTERIOR

National Park Service

General Management Plan Amendment, Abbreviated Final Environmental Impact Statement, Green Spring Unit, Colonial National Historical Park, VA

AGENCY: National Park Service, Department of the Interior.

ACTION: Notice of Availability of a Record of Decision on the Abbreviated Final Environmental Impact Statement for the General Management Plan Amendment, Green Spring Unit, Colonial National Historical Park.

SUMMARY: Pursuant to section 102(2)(C) of the National Environmental Policy Act of 1969, Pub. L. 91-190, 83 Stat. 852, 853, codified as amended at 42 U.S.C. 4332(2)(C), the National Park Service announces the availability of the Record of Decision for the Final General Management Plan Amendment/Abbreviated Final Environmental Impact Statement (Final GMPA/AEIS) for the Green Spring Unit, Colonial National Historical Park, Virginia. On March 31, 2004 National Park Service Regional Director, Northeast Region approved the Record of Decision for the project. As soon as practicable, the National Park Service will begin to implement the Selected Action, described as the Preferred Alternative in the Final GMPA/AEIS issued on September 12, 2003. The Selected Action describes a long-term approach to managing Green Spring and best accomplishes the statutory mission of the National Park Service to provide long-term protection of Green Spring's resources and values while allowing for high quality visitor use and enjoyment. Consistent with the park's mission, NPS policy, and other laws and regulations, this action will guide the development and management of the park over the next 15 to 20 years. The Selected Action incorporates various zoning and management prescriptions to ensure resource preservation and public enjoyment of the park. National Park Service and partners will develop first time interpretive, visitor, and management facilities and programs on the site in two stages: before and after completion of research and closure of Centerville Road. Stage One will focus on research, fieldwork and visitor programs with temporary, low-impact site development. Stage Two's primary site development features include combined Visitor Contact Station/Archeological Support Facility, 17th Century landscape restoration, and interpretive media/devices. The Selected Action and 2 alternatives were analyzed in the Draft and Abbreviated Final Environmental Impact Statements. The full range of foreseeable environmental consequences was assessed, and appropriate mitigating measures were identified. The Selected Action will have both positive and negative impacts on the park's natural and cultural resources; however, most of the negative impacts will be minor and localized. The Selected Action also best accomplishes the stated purposes of the plan as described on pp.14 of the “Purpose and Need for Action”, Final General Management Plan Amendment/Abbreviated Final Environmental Impact Statement (Final GMPA/AEIS) for Colonial NHP, and park mission goals. Consequently, the Selected Action best addresses the conservation of values embodied in the Organic Act. The National Park Service has determined that implementation of the Selected Action, Alternative C of the Final General Management Plan Amendment/Abbreviated Final Environmental Impact Statement, will not constitute an impairment to Green Spring's resources and values. This conclusion is based on a thorough analysis of the environmental impacts described in the Draft GMPA/EIS and Final GMPA/AEIS, the public comments received, relevant scientific studies, and the professional judgment of the decision-maker guided by the 2001 edition of National Park Service Management Policies. Overall, the plan results in major benefits to park resources and values, opportunities for their enjoyment, and does not result in their impairment. The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Superintendent, Colonial National Historical Park, Post Office Box 210, Yorktown, Virginia 23690 or by calling 757-898-2401 or via e-mail at becky_eggleston@nps.gov.

SUPPLEMENTARY INFORMATION: Copies of the Record of Decision may be obtained from the contact listed above.

Dated: May 13, 2004.
Alec Gould,
Superintendent, Colonial National Historical Park.

[FR Doc. 04-17251 Filed 7-28-04; 8:45 am]

BILLING CODE 4312-HY-P